FEDERAL COMMUNICATIONS COMMISSION

Federal Advisory Committee, Diversity and Digital Empowerment

AGENCY: Federal Communications Commission.

ACTION: Notice.

SUMMARY: In this document, the Federal Communications Commission (FCC or Commission) announces the June 24, 2019, meeting and agenda of the Advisory Committee on Diversity and Digital Empowerment (ACDDE).

DATES: June 24, 2019, beginning at 10:00 a.m.

ADDRESSES: Federal Communications Commission, 445 12th Street SW, Room TW-C305, Washington, DC 20554.

FOR FURTHER INFORMATION CONTACT: Jamila Bess Johnson, Designated Federal Officer (DFO), Federal Communications Commission, Media Bureau, (202) 418-2608, Jamila-Bess.Johnson@fcc.gov; or Brenda Villanueva, Deputy Designated Federal Officer (DFO), (202) 418-7005, Brenda.Villanueva@fcc.gov.

SUPPLEMENTARY INFORMATION: This meeting is open to members of the public. The FCC will accommodate as many attendees as possible; however, admittance will be limited to seating availability. The Commission will also provide audio and video coverage of the meeting over the internet at www.fcc.gov/live. Oral statements at the meeting by parties or entities not represented on the ACDDE will be permitted to the extent time permits and at the discretion of the ACDDE Chair and the DFO. Members of the public may submit comments to the ACDDE in the FCC's Electronic Comment Filing System, ECFS, at www.fcc.gov/ecfs. Comments to the ACDDE should be filed in Docket No. 17-208.

Open captioning will be provided for this event. Other reasonable accommodations for persons with disabilities are available upon request. Requests for such accommodations should be submitted via email to fcc504@fcc.gov or by calling the Consumer and Governmental Affairs Bureau at (202) 418-0530 (voice), (202) 418-0432 (TTY). Such requests should include a detailed description of the accommodation needed. In addition, please include a way for the FCC to contact the requester if more information is needed to fulfill the request. Please allow at least five days' notice; last minute requests will be accepted but may not be possible to accommodate.

Proposed Agenda: The agenda at this meeting will feature a report from each of the ACDDE Working Groups. Each of the Working Groups will report on their work under the current ACDDE charter which expires July 5, 2019. The Broadcast Diversity and Development Working Group will present a summary report on the ACDDE March 7, 2019 broadcast symposium, “Exploring Strategies That Have Advanced Media Diversity.” The Digital Empowerment and Inclusion Working Group will report on its assessment of access, adoption, and use of broadband and new technologies by under-resourced communities. The Diversity in Tech Working Group will report on its best practices guide pertaining to hiring, promotion, and retention of women and minorities in tech industries.

The Committee's mission is to provide recommendations to the FCC on how to empower disadvantaged communities and accelerate the entry of small businesses, including those owned by women and minorities, into the media, digital news and information, and audio and video programming industries, including as owners, suppliers, and employees. The Committee's role is to provide recommendations on how to ensure that disadvantaged communities are not denied the wide range of opportunities made possible by next-generation networks and develop best practices regarding training and hiring opportunities for women and minorities to encourage diversity in the tech industry.

This agenda may be modified at the discretion of the ACDDE Chair and the DFO.

Federal Communications Commission.
Katura Jackson,
Federal Register Liaison Officer.

[FR Doc. 2019-12074 Filed 6-7-19; 8:45 am]

BILLING CODE 6712-01-P